DEPARTMENT OF ENERGY

Federal Energy Regulatory Commission

[Project No. 2203-013—Alabama Holt Hydroelectric Project]

Alabama Power Company; Notice of Revised Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

Commission staff is consulting with the Alabama State Historic Preservation Officer (Alabama SHPO) and the Advisory Council on Historic Preservation (Advisory Council) pursuant to the Advisory Council's regulations, 36 CFR part 800, implementing section 106 of the National Historic Preservation Act, as amended, (16 U.S.C. 470f), to prepare a Programmatic Agreement (PA) for managing properties included in, or eligible for inclusion in, the National Register of Historic Places at the Holt Hydroelectric Project. The PA, when executed by the Commission, the Alabama SHPO, and the Advisory Council, would satisfy the Commission's section 106 responsibilities for all individual undertakings carried out in accordance with the license until the license expires or is terminated (36 CFR 800.13(e)).

On August 30, 2011, Commission staff established a restricted service list for the Holt Hydroelectric Project. On June 6, 2012, the Jena Band of Choctaw Indians requested revisions to the restricted service list. The revisions are:

“Chief Christine Norris” is replaced with “Chief B. Cheryl Smith;”

“Michael Tarpley, THPO” is replaced with “Dana Masters, THPO.”

Dated: June 12, 2012.
Kimberly D. Bose,
Secretary.

[FR Doc. 2012-14983 Filed 6-19-12; 8:45 am]

BILLING CODE 6717-01-P